DEPARTMENT OF TRANSPORTATION

National Highway Traffic Safety Administration

[U.S. DOT Docket Number NHTSA-2007-0034]

Reports, Forms, and Recordkeeping Requirements

AGENCY: National Highway Traffic Safety Administration (NHTSA), Department of Transportation.

ACTION: Correction notice.

SUMMARY: This document corrects the OMB Control Number of the notice published December 6, 2007 (72 FR 68955) for Paperwork Reduction Act of 1995 (44 U.S.C. 3501 et seq., OMB Control Number 2127-0506).

DATES: Comments must be received on or before February 4, 2008.

FOR FURTHER INFORMATION CONTACT: Mr. Markus Price at the National Highway Traffic Safety Administration, Office of Crash Avoidance Standards, 1200 New Jersey Avenue, SE., West Building, Room W43-472, Washington, DC 20590. Mr. Price's telephone number is (202-366-0098). Please identify the relevant collection of information by referring to its OMB Control Number.

SUPPLEMENTARY INFORMATION: The National Highway Traffic Safety Administration is correcting the OMB Control Number 2127-0505 to reflect the correct OMB Control Number 2127-0506 in the December 6, 2007 notice. All previous information associated with the notice published December 6, 2007 remains the same.

Issued on: January 11, 2008.
Stephen R. Kratzke,
Associate Administrator for Rulemaking.

[FR Doc. E8-731 Filed 1-15-08; 8:45 am]

BILLING CODE 4910-59-P